DEPARTMENT OF THE INTERIOR

National Park Service

[NPS-WASO-NAGPRA-17330; PPWOCRADN0-PCU00RP14.R50000]

Notice of Intent To Repatriate Cultural Items: Beneski Museum of Natural History, Amherst College, Amherst, MA

AGENCY: National Park Service, Interior.

ACTION: Notice.

SUMMARY: The Beneski Museum of Natural History, Amherst College (formerly the Pratt Museum of Natural History), in consultation with the appropriate Indian tribes or Native Hawaiian organizations, has determined that the cultural items listed in this notice meet the definition of unassociated funerary objects. Lineal descendants or representatives of any Indian tribe or Native Hawaiian organization not identified in this notice that wish to claim these cultural items should submit a written request to the Beneski Museum of Natural History, Amherst College. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Beneski Museum of Natural History, Amherst College at the address in this notice by March 9, 2015.

ADDRESSES: Tekla A. Harms, NAGPRA Coordinator, Beneski Museum of Natural History, Amherst College, Amherst, MA 01002, telephone (413) 542-2233, email taharms@amherst.edu.

SUPPLEMENTARY INFORMATION: Notice is here given in accordance with the Native American Graves Protection and Repatriation Act (NAGPRA), 25 U.S.C. 3005, of the intent to repatriate cultural items under the control of the Beneski Museum of Natural History, Amherst College that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

The Beneski Museum of Natural History, Amherst College (Beneski Museum) holds 118 cultural items that are documented to have been, or can reasonably be inferred to have been unassociated funerary objects that were removed from the state of Florida. These cultural items came to the Beneski Museum at several different times and through different avenues. Information on these cultural items comes solely from the hand-written ledger titled “Catalogue of the Gilbert Museum of Indian Relics in Amherst College” (here referred to as the “Gilbert Catalogue”) which opens in approximately 1860 and closes in approximately 1915. In nearly all cases, the information in this record is limited to the state of origin of an item but may include a more specific locale and/or the name of the donor or collector. Cultural affinities are not given. Entries are not dated.

The Beneski Museum holds 16 cultural items received from Mr. Warren K. Moorehead of Andover, MA, described as “found in mounds in Florida.” These cultural items are: One conch shell ladle; two shell spoons(?); three shell pendants or sinkers; three whorled implements from the spindle of large coiled shells; three large stone celts; and four clay pots, killed, fragmented, and reconstructed, including one from near Potter's Bar, St. George's Sound, Franklin County, FL and one from near Pearl Bayou, St. Andrew's Bay, Washington County, FL.

The Beneski Museum holds 37 cultural items obtained from Clarence B. Moore of Philadelphia, most—if not all—received in 1872. These cultural items are: Five stone sinkers and two shell sinkers from 3 miles east of Marco, Lee County, FL; one shell celt from near Marco, Lee County, FL; six stone sinkers or pendants, five shell sinkers or pendants, and five shell beads from Marco Island, Ten Thousand Islands, Lee County, FL; five stone sinkers or pendants, five whorled shell sinkers or pendants, one awl of whorled shell, one shell gorget, and one large shell ring from Addison's Key, near Marco, Lee County, FL. Items received from C.B. Moore have only Gilbert Catalogue collection numbers. They do not bear, nor is there a record of, any of Moore's original collection numbers or his field information; the only known provenience of these cultural items is what is given in the Gilbert Catalogue. Nevertheless, many of these cultural items are very similar to those illustrated in Moore's publications on his Florida excavations in which such cultural items are documented as having been removed from mounds.

The Beneski Museum holds nine stone points purchased from Professor C.U. Shepard (of Amherst College) in 1877. They are listed only as having originated in Florida.

The Beneski Museum holds ten cultural items from known and unknown sources, including one pottery fragment from East Florida obtained from a G.J. Lebasson; five fragments of pottery from Laurel Grove, St. Johns River, East Florida (Clay County, FL) from an unknown source; three fragments of pottery from Ormond, Florida (Volusia County, FL) from an unknown source; and one pottery pipe bowl from a “shell heap” in Ormond, FL (Volusia County, FL), donor or collector unknown.

The Beneski Museum holds four stone tools identified as a point, a scraper, a drill, and a knife whose provenience is unknown, except that the Gilbert Catalogue indicates they are from Florida.

The Beneski Museum holds 42 uncataloged shell beads that have been stored with cataloged shell beads and may have been obtained either from W.K. Moorehead or C.B. Moore.

Multiple lines of evidence—guided by tribal consultations—including geographic, oral tradition, historical, and aboriginal land claims, demonstrate a shared group identity between these 118 cultural items and the modern-day Miccosukee Tribe of Indians; Seminole Tribe of Florida (previously listed as the Seminole Tribe of Florida (Dania, Big Cypress, Brighton, Hollywood & Tampa Reservations)); and The Seminole Nation of Oklahoma. Consultation with the Miccosukee Tribe of Indians indicates that the kinds of cultural items listed here are traditionally associated with deceased individuals and would not have been otherwise discarded. The cultural items known to have been removed from mounds do not differ from those for which provenience is not as explicitly documented. It is reasonable to conclude that all 118 cultural items listed here were intended to rest as funerary objects and were obtained from burial mounds.

Determinations Made by the Beneski Museum of Natural History, Amherst College

Officials of the Beneski Museum of Natural History, Amherst College have determined that:

• Pursuant to 25 U.S.C. 3001(3)(B), the 118 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Miccosukee Tribe of Indians.

Additional Requestors and Disposition

Lineal descendants or representatives of any Indian tribe or Native Hawaiian organization not identified in this notice that wish to claim these cultural items should submit a written request with information in support of the claim to Tekla Harms, NAGPRA Coordinator, Beneski Museum of Natural History, Amherst College, Amherst, MA 01002, telephone (413) 542-2233, email taharms@amherst.edu, by March 9, 2015. After that date, if no additional claimants have come forward, transfer of control of the unassociated funerary objects to the Miccosukee Tribe of Indians may proceed.

The Beneski Museum of Natural History, Amherst College is responsible for notifying representatives of the Caddo Nation of Oklahoma; Catawba Indian Nation (aka Catawba Tribe of South Carolina); Cherokee Nation; Chitimacha Tribe of Louisiana; Coushatta Tribe of Louisiana; Eastern Band of Cherokee Indians; Jena Band of Choctaw Indians; Miccosukee Tribe of Indians; Mississippi Band of Choctaw Indians; Seminole Tribe of Florida (previously listed as the Seminole Tribe of Florida (Dania, Big Cypress, Brighton, Hollywood & Tampa Reservations)); The Chickasaw Nation; The Choctaw Nation of Oklahoma; The Modoc Tribe of Oklahoma; The Muscogee (Creek) Nation; The Osage Nation (previously listed as the Osage Tribe); The Quapaw Tribe of Indians; The Seminole Nation of Oklahoma; United Keetoowah Band of Cherokee Indians in Oklahoma; and the Wyandotte Nation that this notice has been published.

Dated: December 16, 2014.
Melanie O'Brien,
Acting Program Manager, National NAGPRA Program.

[FR Doc. 2015-02212 Filed 2-4-15; 8:45 am]

BILLING CODE 4312-50-P